DEPARTMENT OF COMMERCE

National Oceanic and Atmospheric Administration

50 CFR Parts 300 and 660

[Docket No. 110218143-1209-01]

RIN 0648-BA49

Fisheries in the Eastern Pacific Ocean; Pelagic Fisheries; Vessel Identification Requirements

AGENCY: National Marine Fisheries Service (NMFS), National Oceanic and Atmospheric Administration (NOAA), Commerce.

ACTION: Proposed rule; request for comments.

SUMMARY: NMFS proposes to revise vessel identification requirements for U.S. vessels based out of the U.S. West Coast that fish for highly migratory species. The new measures would allow these vessels to be marked in accordance with the international standards that were implemented by NMFS for vessels fishing on the high seas in the Area of the Convention on the Conservation and Management of Highly Migratory Fish Stocks in the Western and Central Pacific Ocean (Convention Area) in early 2010. Currently, the domestic marking requirements for some U.S. West Coast vessels do not comport with these international standards. The new measures would require vessels that fish in the Convention Area to display their International Telecommunication Union Radio Call Sign (IRCS), or if an IRCS has not been assigned to the vessel, the vessel would be required to display its official number, preceded by the characters “USA-”. The intent of the proposed action is to bring the existing vessel identification requirements into conformity with the binding vessel identification requirements adopted by the Western and Central Pacific Fisheries Commission (WCPFC).

DATES: Comments must be received by 5 p.m., local time, on May 5, 2011.

ADDRESSES: You may submit comments, identified by 0648-BA49, by any one of the following methods:

• Electronic Submissions: Submit all electronic public comments via the Federal eRulemaking Portal: http://www.regulations.gov.

• Fax: 562-980-4047, Attn: Heidi Hermsmeyer.

• Mail: Rodney R. McInnis, Regional Administrator, NMFS Southwest Regional Office (SWR), 501 W. Ocean Blvd., Suite 4200, Long Beach, CA 90802. Include the identifier “0648-BA49” in the comments.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

Written comments regarding the burden-hour estimates or other aspects of the collection-of-information requirements contained in this proposed rule may be submitted to NMFS SWR at the address above, and by e-mail to OIRA_Submission@omb.eop.gov, or fax to (202) 395-7285.

FOR FURTHER INFORMATION CONTACT: Heidi Hermsmeyer, NMFS SWR, 562-980-4036.

SUPPLEMENTARY INFORMATION: The WCPFC was established under the Convention on the Conservation and Management of Highly Migratory Fish Stocks in the Western and Central Pacific Ocean (Convention). The Convention's objective is to ensure, through effective management, the long-term conservation and sustainable use of highly migratory fish stocks in the western and central Pacific Ocean, including measures to manage and conserve tunas and to minimize impacts on protected resources, such as sea turtles and seabirds. Figure 1 is a map of the Convention Area. The Convention Area includes the operational areas of U.S. troll, pole-and-line, tuna purse seine, and pelagic longline fisheries.

Under the Convention, vessels that are authorized to fish on the high seas in the Convention Area are required to be identified in accordance with the Standard Specifications for the Marking and Identification of Fishing Vessels of the Food and Agriculture Organization of the United Nations. By final rules published on January 21, 2010 (75 FR 3335 and 3416), NMFS implemented those standards for U.S. fishing vessels under the authority of the Western and Central Pacific Fisheries Convention Implementation Act (WCPFCIA, Pub. L. 109-479, sec. 501, et seq., and codified at 16 U.S.C. 6901 et seq.). Specifically, U.S. vessels used for commercial fishing for highly migratory species (HMS) on the high seas with a NMFS-issued WCPFC Area Endorsement would be required to display its IRCS on the port and starboard sides of the hull or superstructure and deck surface. If an IRCS has not been assigned, the vessel must display its official number (i.e., USCG documentation number or other registration number) preceded by the characters “USA” and a hyphen (i.e., “USA—”). Only these markings would be allowed on the hull or superstructure, apart from the vessel's name and hailing port.

This proposed rule is consistent with the requirements established under the WCPFCIA as it would revise existing vessel identification regulations at Title 50, Code of Federal Regulations, §§ 660.704 and 300.173 to conform to the international standards. United States vessels that are issued a permit under 50 CFR 660.707, i.e., vessels that fish for HMS off or land HMS in the States of California, Oregon, and Washington, and that fish for HMS on the high seas of the Convention Area would be required to display vessel markings as described above. Vessels that fish for pelagic species only within the U.S. Exclusive Economic Zone (EEZ) or on the high seas outside the Convention Area would have the option to be marked pursuant to the vessel identification requirements described above, or maintain markings pursuant to existing vessel identification requirements. The proposed rule would modify only the characters with which Federally-permitted pelagic fishing vessels are marked, and would not modify vessel operations or other aspects of the pelagic fisheries.

Classification

Pursuant to section 304(b)(1)(A) of the Magnuson-Stevens Act (16 U.S.C. 1854(b)(1)(A)), the NMFS Assistant Administrator has determined that this proposed rule is consistent with the Magnuson-Stevens Act, and other applicable law, subject to further consideration after public comment.

This proposed rule has been determined to be not significant for purposes of Executive Order 12866.

The Chief Council for Regulation of the Department of Commerce certified to the Chief Council for Advocacy of the Small Business Administration that this proposed rule, if adopted, would not have a significant economic impact on a substantial number of small entities. A description of the action, why it is being considered, and the legal basis for this action are contained in the preamble to this proposed rule. All vessels having the potential to be affected by this action are considered to be small entities under the current Small Business Administration definition of small fish-harvesting businesses (gross receipts not in excess of $ 4.0 million).

The proposed rule would result in an estimated one-time cost to each vessel of around $10 dollars to conform to the new vessel marking requirements. It is estimated that at a maximum 125 vessels would be required to change their markings (estimate based on the current number of active vessels targeting HMS on the high seas that have the potential to fish in the WCPFC Convention Area). The majority, if not all, of these vessels would be troll and pole-and-line vessels targeting albacore tuna. The estimated 2008 average gross revenue per vessel for the troll and pole-and-line fisheries was approximately $52,000. Average gross revenues per vessel for other fisheries that have the potential to be affected would be equal to or greater than the estimate for the troll and pole-and-line fisheries. Therefore, the cost of vessel marking for those vessels represents less than one percent of gross revenues per vessel on average. It is highly unlikely that this action would result in any vessel's costs exceeding three percent of gross revenues (which would translate to an estimated cost of $1,550 for the troll and pole-and-line fisheries).

This proposed action contains no fishery management controls that affect the operations of the fishery, other than vessel identification. Thus, significant impacts to the profitability of a substantial number of small entities are not anticipated. This rule does not duplicate, overlap, or conflict with other Federal rules. There are no disproportionate economic impacts from this rule based on home port, gear type, or relative vessel size. The Pacific Fishery Management Council (Council) was briefed on this issue at their September 2008 meeting; in a letter dated November 20, 2008, the Council formally recommended that NMFS revise regulations accordingly.

Pursuant to section 605(b) of the Regulatory Flexibility Act, 5 U.S.C. 605(b), the NMFS Southwest Regional Office (SWR) has determined that, for the reasons described above, this rule will not have a significant economic impact on a substantial number of small entities. As a result, an initial regulatory flexibility analysis is not required and none has been prepared.

This proposed rule contains collection-of-information requirements subject to the Paperwork Reduction Act (PRA) and which have been approved by the Office of Management and Budget (OMB) under control numbers 0648-0361 and 0648-0492. Public reporting burden for vessel identification requirements under 0648-0361 is estimated to average 45 minutes per response, and public reporting burden for vessel marking requirement under 0648-0492 is estimated to average 5 minutes per response, including the time for reviewing instructions, searching existing data sources, gathering and maintaining the data needed, and completing and reviewing the collection of information. Send comments regarding this burden estimate, or any other aspect of this data collection, including suggestions for reducing the burden, to NMFS Southwest Regional Office (see ADDRESSES) and by e-mail to OIRA_Submission@omb.eop.gov, or fax to 202-395-7285.

Notwithstanding any other provision of the law, no person is required to respond to, and no person shall be subject to penalty for failure to comply with, a collection of information subject to the requirements of the PRA, unless that collection of information displays a currently valid OMB Control Number.

List of Subjects

50 CFR Part 300

Administrative practice and procedure, Fisheries, Reporting and recordkeeping requirements.

50 CFR Part 660

Administrative practice and procedure, Reporting and recordkeeping requirements.

Dated: March 31, 2011.
John Oliver,
Deputy Assistant Administrator for Operations, National Marine Fisheries Service.

For the reasons set out in the preamble, 50 CFR parts 300 and 660 are proposed to be amended as follows:

PART 300—INTERNATIONAL FISHERIES REGULATIONS

1. The authority citation for part 300 continues to read as follows:

Authority: 16 U.S.C. 2431 et seq., 31 U.S.C. 9701 et seq.

2. Section § 300.173 is revised to read as follows:

§ 300.173 Vessel identification.

Each U.S. vessel fishing under the Treaty must be marked for identification purposes, as follows:

(a) A vessel used to fish on the high seas within the Convention Area as defined in § 300.211 must be marked in accordance with the requirements at § 300.14 and 300.217.

(b) A vessel not used to fish on the high seas within the Convention Area as defined in § 300.211 must be marked in accordance with either:

(1) Sections 300.14 and 300.217, or

(2) The vessel's name and U.S. Coast Guard Documentation number (or if not documented, the state registration number) followed by the letter U must be prominently displayed where they will be clearly visible both from the air and from a surface vessel. Numerals and the letter U must meet the size requirements of § 660.704 of this title. Markings must be legible and of a color that contrasts with the background.

PART 660—FISHERIES OFF WEST COAST STATES

1. The authority citation for part 660 continues to read as follows:

Authority: 16 U.S.C. 1801 et seq. and 16 U.S.C. 7001 et seq.

2. Section 660.704 is revised to read as follows:

§ 660.704 Vessel identification.

(a) Applicability. This section only applies to commercial fishing vessels that fish for HMS off, or land HMS in the States of California, Oregon, and Washington. This section does not apply to recreational charter vessels that fish for HMS off or land HMS in the States of California, Oregon, and Washington. Each fishing vessel must be marked for identification purposes, as follows:

(1) A vessel used to fish on the high seas within the Convention Area as defined in § 300.211 of this title must be marked in accordance with the requirements at § 300.14 and 300.217 of this title.

(2) A vessel not used to fish on the high seas within the Convention Area as defined in § 300.211 of this title must be marked in accordance with either:

(i) Sections 300.14 and 300.217 of this title, or

(ii) The vessel's official number must be affixed to the port and starboard sides of the deckhouse or hull, and on an appropriate weather deck so as to be visible from enforcement vessels and aircraft. The official number must be affixed to each vessel subject to this section in block Arabic numerals at least 10 inches (25.40 cm) in height for vessels more than 25 ft (7.62 m) but equal to or less than 65 ft (19.81 m) in length; and 18 inches (45.72 cm) in height for vessels longer than 65 ft (19.81 m) in length. Markings must be legible and of a color that contrasts with the background.

(b) [Reserved].

[FR Doc. 2011-8075 Filed 4-4-11; 8:45 am]

BILLING CODE 3510-22-P